DEPARTMENT OF AGRICULTURE

Animal and Plant Health Inspection Service

[Docket No. APHIS-2025-0409]

International Sanitary and Phytosanitary Standard-Setting Activities

AGENCY: Animal and Plant Health Inspection Service, USDA.

ACTION: Notice and request for comments.

SUMMARY: In accordance with section 491 of the Trade Agreements Act of 1979, as amended, and legislation implementing the results of the Uruguay Round of negotiations under the General Agreement on Tariffs and Trade, we are informing the public of the international standard-setting activities of the World Organization for Animal Health, the Secretariat of the International Plant Protection Convention, and the North American Plant Protection Organization, and we are soliciting public comment on these standard-setting activities.

ADDRESSES: You may submit comments by either of the following methods:

• Federal eRulemaking Portal: Go to www.regulations.gov. Enter APHIS-2025-0409 in the Search field. Select the Documents tab, then select the Comment button in the list of documents.

• Postal Mail/Commercial Delivery: Send your comment to Docket No. APHIS-2025-0409, Regulatory Analysis and Development, PPD, APHIS, 5601 Sunnyside Ave., #AP760, Beltsville, MD 20705.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For general information on the topics covered in this notice, contact Mr. Eric Nichols, Director, Trade Support Team, APHIS-IS, Room 1627-S, USDA South Building, 1400 Independence Avenue SW, Washington, DC 20250; (202) 799-7122.

For specific information regarding standard-setting activities of the World Organization for Animal Health, contact Dr. Conrad Estrada, Office of International Affairs, Jamie L. Whitten Federal Building, Room 317 E, 1400 Independence Ave. SW, Washington DC 20250; (202) 799-7146.

For specific information regarding the standard-setting activities of the International Plant Protection Convention (IPPC) and the North American Plant Protection Organization (NAPPO), contact Stephanie Dubon, NAPPO Technical Director, International Phytosanitary Standards, Plant Protection and Quarantine, APHIS, 5601 Sunnyside Avenue, Beltsville, MD 20705; (301) 332-9071; Stephanie.M.Dubon@usda.gov.

SUPPLEMENTARY INFORMATION:

Background

The World Trade Organization (WTO) was established as the common international institutional framework for governing trade relations among its members in matters related to the Uruguay Round Agreements. The WTO is the successor organization to the General Agreement on Tariffs and Trade. U.S. membership in the WTO was approved by Congress when it enacted the Uruguay Round Agreements Act (Pub. L. 103-465), which was signed into law on December 8, 1994. The WTO Agreements, which established the WTO, entered into force with respect to the United States on January 1, 1995. The Uruguay Round Agreements Act amended Title IV of the Trade Agreements Act of 1979 (19 U.S.C. 2531 et seq.). Section 491 of the Trade Agreements Act of 1979, as amended (19 U.S.C. 2578), requires the President to designate an agency to be responsible for informing the public of the sanitary and phytosanitary standard-setting (SPS) activities of each international standard-setting organization. The designated agency must inform the public by publishing an annual notice in the Federal Register that provides the following information: (1) The SPS standards under consideration or planned for consideration by the SPS organization; and (2) for each SPS standard specified, a description of the consideration or planned consideration of that standard, a statement of whether the United States is participating or plans to participate in the consideration of that standard, the agenda for U.S. participation, if any, and the agency responsible for representing the United States with respect to that standard.

“International standard” is defined in 19 U.S.C. 2578b as any standard, guideline, or recommendation: (1) Adopted by the Codex Alimentarius Commission (Codex) regarding food safety; (2) developed under the auspices of the World Organization for Animal Health (WOAH) ¹ regarding animal health; (3) developed under the auspices of the Secretariat of the International Plant Protection Convention (IPPC or the Convention) and the North American Plant Protection Organization (NAPPO) regarding plant health; or (4) established by or developed under any other international organization agreed to by the member countries of the United States-Mexico-Canada Agreement (USMCA) or the member countries of the WTO.

¹ The World Organization for Animal Health internationally follows a British English spelling of “organisation” in its name; it was formerly the Office International des Epizooties, or OIE, but on May 28, 2022, the organization announced that the acronym was changed from OIE to WOAH.

The President, pursuant to Proclamation No. 6780 of March 23, 1995 (60 FR 15845), designated the Secretary of Agriculture as the official responsible for informing the public of the SPS activities of Codex, WOAH, IPPC, and NAPPO. The U.S. Codex Office (USCO), in the United States Department of Agriculture's (USDA's) Trade and Foreign Agricultural Affairs mission area, informs the public of standard-setting activities of Codex, and the USDA Animal and Plant Health Inspection Service (APHIS) informs the public of WOAH, IPPC, and NAPPO standard-setting activities.

USCO publishes an annual notice in the Federal Register to inform the public of SPS activities for Codex (90 FR 22226). Codex was established in 1963. It is the principal international organization for establishing food standards that protect consumer health and promote fair practices in food trade.

APHIS is responsible for publishing an annual notice of WOAH, IPPC, and NAPPO activities related to international standards for plant and animal health and representing the United States with respect to these standards. The following are descriptions of the WOAH, IPPC, and NAPPO organizations and the standard-setting agenda for each of these organizations. We have described the agenda that each of these organizations addressed at their annual general sessions, including standards that were presented for adoption or consideration, as well as other initiatives that may be underway at the WOAH, IPPC, and NAPPO.

The agendas for these meetings are subject to change, and the draft standards identified in this notice may not be sufficiently developed and ready for adoption as indicated. Also, while it is the intent of the United States to support adoption of international standards and to participate actively and fully in their development, it should be recognized that the U.S. position on a specific draft standard will depend on the acceptability of the final draft. Given the dynamic and interactive nature of the standard-setting process, we encourage any persons who are interested in the most current details about a specific draft standard or the U.S. position on a particular standard-setting issue, or in providing comments on a specific standard that may be under development, to contact APHIS. Contact information is provided at the beginning of this notice under FOR FURTHER INFORMATION CONTACT.

WOAH Standard-Setting Activities

The WOAH was established in Paris, France, in 1924, with the signing of an international agreement by 28 countries. It is currently composed of 183 Members, each of which is represented by a delegate who, in most cases, is the chief veterinary officer of that country or territory. The Deputy Administrator of APHIS' Veterinary Services program is the U.S. Chief Veterinary Officer and serves as the official U.S. Delegate to the WOAH. The WTO has recognized WOAH as the international forum for setting animal health standards, reporting global animal disease events, and presenting guidelines and recommendations on sanitary measures relating to animal health.

The WOAH facilitates intergovernmental cooperation to prevent the spread of contagious diseases in animals by sharing scientific research among Members. The major functions of WOAH are to collect and disseminate information on the distribution and occurrence of animal diseases and to ensure that science-based standards govern animal disease control efforts and international trade in animals and animal products. The WOAH also aims to achieve these objectives through the development and revision of international standards for animal health, disease control, diagnostic tests and vaccines.

The WOAH provides annual reports on the global distribution of animal diseases, recognizes Members' disease status for certain diseases, categorizes animal diseases with respect to their international significance, publishes bulletins on global disease status, and provides animal disease control guidelines to Members. Various WOAH commissions and working groups undertake the development and preparation of draft standards, which are then circulated to Members for consultation (review and comment). Draft standards are revised accordingly and are presented to WOAH's World Assembly of Delegates (all the Members) for review and adoption during the General Session, which meets annually every spring. Adoption, as a general rule, is based on consensus of the WOAH membership.

The 91st WOAH General Session was held from May 26 to 30, 2024, and the 92nd WOAH General Session was held from May 25 to 29, 2025. Both General Sessions took place in Paris, France. The following are some of the chapters adopted into code during the 91st and 92nd Sessions; visit https://www.woah.org/en/what-we-do/standards/codes-and-manuals/ for a full list of the current WOAH codes and manuals:

91st General Session—Terrestrial

• Glossary.

• Chapter 1.3., Diseases, infections and infestations listed by WOAH.

• Chapter 4.6., General hygiene in semen collection and processing centers.

• Chapter 4.7., Collection and processing of bovine, small ruminant and porcine semen.

• Chapter 6.10., Responsible and prudent use of antimicrobial agents in veterinary medicine.

• Chapter 7.5., Animal welfare during slaughter.

• Chapter 8.8., Infection with foot and mouth disease virus.

• Chapter 8.16., Infection with Rift Valley fever virus.

• Chapter 8.18., Infection with Trichinella spp.

• Chapter 8.X., Infection with Coxiella burnetii (Q fever).

• Chapter 8.Z., Infection with Trypanosoma evansi.

• Chapter 13.2., Infection with pathogenic rabbit lagoviruses (Rabbit haemorrhagic disease).

• Chapter 15.1., Infection with African swine fever virus.

• Chapter 16.Z., Infection with Camelpox virus.

92nd General Session—Terrestrial

• User's Guide.

• Chapter 1.3., Diseases, infections and infestations listed by WOAH.

• Chapter 7.1., Introduction to the recommendations for animal welfare.

• Chapter 8.13., New world screwworm (Cochliomyia hominivorax) and old world screwworm (Chrysomya bezziana).

• Chapter 8.Y., Infection with Nipah virus.

• Chapter 11.5., Infection with Mycoplasma mycoides subsp. mycoides SC (Contagious bovine pleuropneumonia).

• Chapter 12.1., Infection with African horse sickness virus.

• Chapter 12.3., Dourine.

• Chapter 12.4., Equine encephalomyelitis (Eastern and Western).

91st General Session—Aquatic

• Glossary.

• Chapter 1.1., Notification of diseases, and provision of epidemiological information.

• Chapter 1.3., Diseases listed by WOAH.

• Chapter 8.1., Infection with Batrachochytrium dendrobatidis.

• Chapter 9.3., Infection with decapod iridescent virus 1.

• Chapter 10.1., Infection with epizootic haematopoietic necrosis virus.

• Chapter: 10.6., Infection with infectious haematopoietic necrosis virus.

• Chapter: 10.11., Infection with tilapia lake virus.

• Chapter 11.1., Infection with abalone herpesvirus.

• Chapter: 11.5., Infection with Perkinsus marinus.

92nd General Session—Aquatic

• Glossary.

• Chapter 4.X., Emergency disease preparedness.

• Chapter 4.Y., Disease outbreak management.

• Chapter 4.6., Contingency planning.

• Chapter 5.X., Movement of ornamental aquatic animals.

• Chapter 9.9., Infection with white spot syndrome virus.

• Chapter 10.X., Infection with Megalocytivirus pagrus1.

• Chapter 10.2., Infection with Aphanomyces invadans (Epizootic ulcerative syndrome).

• Chapter 10.4., Infection with infectious salmon anaemia virus.

• Chapter 10.5., Infection with salmonid alphavirus.

• Chapter 10.6., Infection with infectious haematopoietic necrosis virus.

• Chapter 10.8., Infection with red sea bream iridovirus.

• Chapter 10.10., Infection with viral haemorrhagic septicaemia virus.

• Chapter 11.6., Infection with Perkinsus olseni.

• Chapter 11.7., Infection with Xenohaliotis californiensis.

More information on the standards currently under consideration and how comments are solicited may be found at https://www.aphis.usda.gov/international-standards/woah or by contacting Dr. Conrad Estrada (see FOR FURTHER INFORMATION CONTACT above).

IPPC Standard-Setting Activities

The IPPC is a multilateral convention adopted in 1952 to prevent the spread and introduction of pests of plants and plant products and to promote appropriate measures for their control. The WTO recognizes the IPPC as the standard-setting body for plant health. Under the IPPC, the understanding of plant protection encompasses the protection of both cultivated and non-cultivated plants from direct or indirect injury by plant pests. The IPPC addresses the following activities: Developing, adopting, and implementing international standards for phytosanitary (plant health) measures (ISPMs); harmonizing phytosanitary activities through adopted standards; facilitating the exchange of official and scientific information among contracting parties; and providing technical assistance to developing countries that are contracting parties to the Convention.

The IPPC is deposited within the Food and Agriculture Organization of the United Nations and is an international agreement of 185 contracting parties. National plant protection organizations (NPPOs), in cooperation with regional plant protection organizations, the Commission on Phytosanitary Measures (CPM), and the Secretariat of the IPPC, implement the Convention. The IPPC continues to be administered at the national level by plant quarantine officials, whose primary objective is to safeguard plant resources from injurious pests. In the United States, the NPPO is the APHIS Plant Protection and Quarantine (PPQ) program.

The 18th Session of the CPM occurred April 15-19, 2024, and the 19th Session of the CPM occurred March 17-21, 2025, in Rome, Italy.

The CPM adopted the international phytosanitary standards below in 2024 and 2025. The United States develops its position on each of these draft standards prior to the CPM session based on APHIS' analyses and other relevant information from other U.S. Government agencies and interested stakeholders:

• ISPM 5 (Glossary of phytosanitary terms), 2022 revisions.

• Annex 1 to ISPM 37 (Determination of host status of fruit to fruit flies (Tephritidae)): Criteria for evaluation of available information for determining host status of fruit to fruit flies.

• Revision of ISPM 4 (Requirements for the establishment of pest free areas) (2009-002).

• Annex 46 to ISPM 28 (Phytosanitary treatments for regulated pests): Phytosanitary Treatment 46, Cold treatment for Thaumatotibia leucotreta on Citrus sinensis.

• Draft annex to ISPM 46 (Commodity-specific standards for phytosanitary measures): International movement of fresh Mangifera indica (mango) fruit.

• Draft annex to ISPM 39 (International movement of wood): Use of systems approaches in managing the pest risk associated with the movement of wood.

IPPC Standard-Setting Initiatives, Including Those Under Development

Several expert-working group (EWG) meetings, technical panel meetings, and technical consultations took place from June 2023 through May 2025 on the topics listed below. These IPPC projects are under development and intended for future adoption and publication. APHIS participated actively and fully in most of these drafting groups. APHIS developed its position on each of the topics prior to the working group meeting. The APHIS position was based on relevant scientific information and technical analyses, including information from other U.S. Government agencies and from interested stakeholders:

• EWG on the revision of ISPM 26 (Establishment of pest free areas for fruit flies (Tephritidae)).

• EWG on the Annex to ISPM 23 (Guidelines for inspection): Field inspection.

• Technical Panel on Commodity Standards.

• Technical Panel on Diagnostic Protocols.

• Technical Panel on Phytosanitary Treatments.

• Technical Panel for the Glossary.

The IPPC electronic certification system (ePhyto) solution also progressed from 2023 to 2025. There are currently 116 trading partners that are connected and actively sharing ePhytos through the system; APHIS continues to make important contributions to advancing the development of an international ePhyto system, including: (1) Providing ongoing input and support at the IPPC through the Bureau, Strategic Planning Group, CPM, the ePhyto Steering Committee and other international fora; (2) generating regional and hemispheric support for this new electronic exchange through NAPPO and the Inter-American Coordinating Group in Plant Protection (GICSV); and (3) actively implementing a long-term funding solution that will be necessary to sustain ePhyto into the future. For more detailed information on the above, contact Stephanie Dubon (see FOR FURTHER INFORMATION CONTACT above).

PPQ actively works to achieve broad participation by States, industry, and other stakeholders in the development and use of international and regional plant health standards, including through the use of APHIS Stakeholder Registry notices ² and the APHIS public website. Plant health stakeholders are strongly encouraged to submit topics for new IPPC standards and comment on draft standards, documents, and specifications during the consultation periods.

² To sign up for the Stakeholder Registry, go to: https://public.govdelivery.com/accounts/USDAAPHIS/subscriber/new.

In 2023, 12 draft documents were open for consultation, including standards, specifications, a CPM recommendation, diagnostic protocols, and phytosanitary treatments. In 2024, 11 draft documents were open for consultation, including standards, specifications, and phytosanitary treatments. APHIS posts links to draft standards on its website as they become available and provides information on the due dates for comments.³ Additional information on IPPC standards (including the IPPC work program (list of topics ⁴)), calls for new standards, experts to serve on technical panels and other working groups, proposed phytosanitary treatments, the standard-setting process, and adopted standards) is available on the IPPC website.⁵

³ For more information on the IPPC draft ISPM consultation, go to: https://www.aphis.usda.gov/international-standards/plant-health-standards/draft.

⁴ IPPC list of topics: https://www.ippc.int/en/core-activities/standards-setting/list-topics-ippc-standards/.

⁵ IPPC website: https://www.ippc.int/.

For the most current information on official U.S. participation in IPPC activities, including U.S. positions on standards being considered, contact Stephanie Dubon (see FOR FURTHER INFORMATION CONTACT above). Those wishing to provide comments on any of the areas of work being undertaken by the IPPC may do so at any time by responding to this notice (see ADDRESSES above) or by providing comments through Stephanie Dubon.

NAPPO Standard-Setting Activities

NAPPO, a regional plant protection organization created in 1976 under the IPPC, coordinates the efforts among the United States, Canada, and Mexico to protect their plant resources from the entry, establishment, and spread of harmful plant pests, while facilitating safe intra- and inter-regional trade. As the NPPO of the United States, APHIS PPQ is the organization officially identified to participate in NAPPO. Through NAPPO, APHIS works closely with its regional counterparts and industries to develop harmonized regional standards and approaches for managing pest threats.

This critical work facilitates the safe movement of plants and plant products into and within the region. NAPPO conducts its work through priority-driven projects approved by the NAPPO Executive Committee via an annual work program. These projects are completed by expert groups, including subject matter experts from each member country and regional industry representatives. Project results and updates are provided during the NAPPO annual meeting as well as NAPPO governance meetings. Projects can include the development of positions, policies, technical documents, or the development or revision of regional standards for phytosanitary measures (RSPMs). Projects can also include implementation of standards or other capacity development activities such as workshops.

The PPQ Associate Deputy Administrator or their designee, as the official U.S. delegate to NAPPO, intends to participate in the adoption of these regional plant health standards and projects on the work program once they are completed and ready for consideration.

The 46th NAPPO annual meeting was hosted by Mexico and occurred December 5-7, 2023. The meeting featured several strategic topics related to NAPPO's work program (e.g., seeds, forestry, implementation, citrus, biological control, Tuta absoluta, and treatment alternatives), as well as discussions on collaboration with other regional plant protection organizations, sea containers, international plant health standards, seeds, collaboration with border protection, and diagnostic networks. The meeting also featured a one-day symposium on how the NAPPO member countries are implementing the IPPC Strategic Framework for 2020-2030.

The 47th NAPPO annual meeting was hosted by the United States and occurred October 22-24, 2024. The meeting featured several strategic topics related to NAPPO's work program (e.g., seeds, forestry, biological control, the phytosanitary alert system, and Tuta absoluta), as well as discussions on collaboration among the North America region and with other regional plant protection organizations, and NAPPO contributions to the IPPC. The meeting also featured a one-day symposium on reducing methyl bromide use and implementing NAPPO standards.

NAPPO governance committees, including NAPPO's Executive Committee and the Advisory and Management Committee, as well as expert groups, continue to communicate and meet virtually and in person on a regular basis to actively make progress on NAPPO strategic and work program initiatives. The PPQ Associate Deputy Administrator or their designee is the U.S. member of the NAPPO Executive Committee. The NAPPO Executive Committee met June 1, 2023; December 4, 2023; March 19 and 20, 2024; May 30, 2024; October 21, 2024; and February 26, 2025. The NAPPO Executive Committee adopted three regional standards between June 1, 2023, and May 30, 2025:

• Revision of Discussion Document 5: Management of Huanglongbing and its Vector, the Asian Citrus Psyllid, Diaphorina citri.

• Guidance Document 1: Standardization of responsibilities and actions for safeguarding consignments that have transited one NAPPO member country to enter another NAPPO member country.

• Decision 8: Decision on Diagnostic Protocols for Tomato Brown Rugose Fruit Virus (ToBRFV) in tomato and pepper seeds in the NAPPO region.

NAPPO's Advisory and Management Committee continues to regularly meet virtually and in person. This Committee selects and onboards experts to newly launched NAPPO expert groups; addresses pending work program initiatives; makes recommendations to the Executive Committee; provides day-to-day oversight of NAPPO; and provides expert input and direction on financial, programmatic, and operational issues at NAPPO.

The NAPPO expert groups, including member countries' subject matter experts, in collaboration with NAPPO's Secretariat, significantly made progress on or finalized the following regional standards from June 1, 2023, to May 30, 2025:

• Completed the development or revision and consultation of the following regional standards:

○ Revision of Discussion Document 5: Management of Huanglongbing and its Vector, the Asian Citrus Psyllid, Diaphorina citri.

○ Guidance Document 1: Standardization of responsibilities and actions for safeguarding consignments that have transited one NAPPO member country to enter another NAPPO member country.

○ A draft specification for an RSPM on the use of systems approaches for phytosanitary certification of seeds.

○ Decision 8: Decision on Diagnostic Protocols for Tomato Brown Rugose Fruit Virus (ToBRFV) in tomato and pepper seeds in the NAPPO region.

• Issued via NAPPO's Phytosanitary Alert System: 82 Official Pest Reports from June 1, 2023, to May 30, 2025.

New NAPPO Standard-Setting Initiatives, Including Those in Development

The 2025 work program ⁶ includes activities conducted by NAPPO expert groups and the NAPPO Advisory and Management Committee. APHIS actively and fully participates in the development and approval of the NAPPO work program. The APHIS position on each topic is guided and informed by the best technical and scientific information available and relevant input from stakeholders. For projects on the NAPPO work program, where applicable, the United States will consider its position on any draft standard after it reviews a prepared draft. Information regarding NAPPO projects, assignments, activities, and updates on meeting times and locations may be obtained from the NAPPO website ⁷ or by contacting Stephanie Dubon (see FOR FURTHER INFORMATION CONTACT above).

⁶ NAPPO work program: https://nappo.org/english/governance/work-program.

⁷ NAPPO website: https://nappo.org/.

The information in this notice contains all the information available to APHIS PPQ on NAPPO standards or projects under development or consideration. For updates on meeting times and for information on the expert groups that may become available following publication of this notice, visit the NAPPO website or contact Stephanie Dubon (see FOR FURTHER INFORMATION CONTACT above).

APHIS PPQ actively works to achieve broad participation by States, industry, and other stakeholders in the development and use of international and regional plant health standards, including through the use of APHIS Stakeholder Registry notices ⁸ and the APHIS public website. Plant health stakeholders are strongly encouraged to comment on draft standards, documents, and specifications during consultation periods. APHIS post links to draft standards on the website as they become available and provide information on the due dates for comments.⁹ Additional information on NAPPO standards (including the NAPPO work program, calls for projects, expert groups, the standard-setting process, and adopted standards) is available on the NAPPO website.¹⁰

⁸ To sign up for the Stakeholder Registry, go to: https://public.govdelivery.com/accounts/USDAAPHIS/subscriber/new.

⁹ For more information on NAPPO consultation: https://www.aphis.usda.gov/international-standards/plant-health-standards/draft.

¹⁰ NAPPO website: http://nappo.org.

For the most current information on official U.S. participation in NAPPO activities, including U.S. positions on standards being considered, contact Stephanie Dubon (see FOR FURTHER INFORMATION CONTACT above). Those wishing to provide comments on any of the areas of work being undertaken at NAPPO may do so at any time by responding to this notice (see ADDRESSES above) or by providing comments through Stephanie Dubon.

Done in Washington, DC, this 22nd of January 2026.
Michael Watson,
Administrator, Animal and Plant Health Inspection Service.

[FR Doc. 2026-01546 Filed 1-26-26; 8:45 am]

BILLING CODE 3410-34-P